DEPARTMENT OF ENERGY

Federal Energy Regulatory Commission

Combined Notice of Filings #1

Take notice that the Commission received the following electric rate filings:

Docket Numbers: ER11-3253-001.

Applicants: Turner Energy, LLC.

Description: Notice of Change in Status of Turner Energy, LLC.

Filed Date: 6/19/12.

Accession Number: 20120619-5163.

Comments Due: 5 p.m. ET 7/10/12.

Docket Numbers: ER12-1182-000.

Applicants: Pacific Gas and Electric Company.

Description: Refund Report for Clean Energy Agreements to be effective N/A.

Filed Date: 6/19/12.

Accession Number: 20120619-5007.

Comments Due: 5 p.m. ET 7/10/12.

Docket Numbers: ER12-1629-004.

Applicants: Interstate Power and Light Company.

Description: IPL RES-5 Wholesale Tariff Revisions Amendment to be effective 7/1/2012.

Filed Date: 6/19/12.

Accession Number: 20120619-5156.

Comments Due: 5 p.m. ET 7/10/12.

Docket Numbers: ER12-1842-002.

Applicants: The Finerty Group, Inc.

Description: Amendment to Filing2 to be effective 5/25/2012.

Filed Date: 6/19/12.

Accession Number: 20120619-5001.

Comments Due: 5 p.m. ET 7/3/12.

Docket Numbers: ER12-2065-000.

Applicants: Aequitas Energy, Inc.

Description: Baseline New to be effective 6/19/2012.

Filed Date: 6/19/12.

Accession Number: 20120619-5006.

Comments Due: 5 p.m. ET 7/10/12.

Docket Numbers: ER12-2067-000.

Applicants: MidAmerican Energy Company.

Description: Certificates of Concurrence—ITC Midwest to be effective 7/3/2012.

Filed Date: 6/19/12.

Accession Number: 20120619-5023.

Comments Due: 5 p.m. ET 7/10/12.

Docket Numbers: ER12-2068-000.

Applicants: Blue Sky East, LLC.

Description: Application for Market-Based Rate Authorization to be effective 8/18/2012.

Filed Date: 6/19/12.

Accession Number: 20120619-5040.

Comments Due: 5 p.m. ET 7/10/12.

Docket Numbers: ER12-2069-000.

Applicants: AEP Texas North Company.

Description: Higher Power Energy SUA Amendment No. 1 to be effective 5/24/2012.

Filed Date: 6/19/12.

Accession Number: 20120619-5070.

Comments Due: 5 p.m. ET 7/10/12.

Docket Numbers: ER12-2070-000.

Applicants: ITC Midwest LLC.

Description: ITC Midwest LLC Filing of a Notice of Succession to be effective 8/20/2012.

Filed Date: 6/19/12.

Accession Number: 20120619-5132.

Comments Due: 5 p.m. ET 7/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2012.
Nathaniel J. Davis, Sr.,
Deputy Secretary.

[FR Doc. 2012-15647 Filed 6-26-12; 8:45 am]

BILLING CODE 6717-01-P